DEPARTMENT OF AGRICULTURE

Submission for OMB Review; Comment Request

August 25, 2008.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Farm Service Agency

Title: Report of Acreage.

OMB Control Number: 0560-0004.

Summary of Collection: 7 U.S.C. 7333(b)(3) specifically requires, for crops and commodities covered by the Noninsured Crop Disaster Assistance Program (NAP), annual reports of acreage planted and prevented from being planted, as required by the Secretary, by the designated acreage reporting data for the crop and location as established by the Secretary. The report of acreage is conducted on an annual basis and is used by the Farm Service Agency (FSA) county offices to determine eligibility for benefits that are available to producers on the farm. Respondents must provide the information each year because variables such as previous year experience, weather occurrences and projections, market demand, new farming techniques and personal preferences affect the amount of land being farmed, the mix of crops planted, and the projected harvest. Prior year information is not sufficient on its own. Therefore, respondents must supply current data on a program year basis by the final reporting date established for their country to qualify for NAP assistance.

Need and Use of the Information: FSA will collect information verbally from the producers during visits to the county offices. FSA will collect one or more of the following data elements, as required: Crop planted, planting date, crop's intended use, type or variety, practice (irrigated or non-irrigated), acres, location of the crop (tract and field), and the producer's percent share in the crop along with the names of other producers having an interest in the crop. Once the information is collected and eligibility established, the information is used throughout the crop year to ensure the producer remains compliant with program provisions. If information is not reported, FSA has no basis to calculate APH, losses could not be determined, and information for crop insurance expansion could not be provided to RMA.

Description of Respondents: Individuals or households.

Number of Respondents: 291,500.

Frequency of Responses: Reporting: Annually.

Total Burden Hours: 619,438.

Farm Service Agency

Title: Offer Forms.

OMB Control Number: 0560-0177.

Summary of Collection: The Agricultural Trade Development and Assistance Act of 1954, as amended, (Title II, Pub. L. 480), Section 416(b) of the Agricultural Act of 1949, as amended (Section 416(b)), and the Food for Progress Act of 1985, as amended (for Food for Progress) authorizes International Procurement Division to procure, sell, and transport agricultural commodities, and obtain discharge/delivery survey information. Contractors, vendors, and steamship companies submit competitive offers for agricultural commodities and services. The Farm Service Agency (FSA) will collect information using several forms.

Need and Use of the Information: The information collected will enable Kansas City Commodity Office (KCCO) to evaluate offers impartially, purchase or sell commodities, and obtain services to meet domestic and export program needs. Without the information KCCO could not meet program requirements.

Description of Respondents: Business or other for-profit.

Number of Respondents: 949.

Frequency of Responses: Recordkeeping; Reporting: On occasion; Quarterly; Weekly; Semi-annually; Monthly; Annually; Other (Bi-weekly & Bi-monthly).

Total Burden Hours: 3,405.

Ruth Brown,
Departmental Information Collection Clearance Officer.

[FR Doc. E8-20060 Filed 8-28-08; 8:45 am]

BILLING CODE 3410-05-P